DEPARTMENT OF TRANSPORTATION

Federal Aviation Administration

14 CFR Part 39

[Docket No. FAA-2011-0219; Directorate Identifier 2010-NM-228-AD; Amendment 39-16921; AD 2012-01-09]

RIN 2120-AA64

Airworthiness Directives; The Boeing Company Airplanes

AGENCY: Federal Aviation Administration (FAA), DOT.

ACTION: Final rule.

SUMMARY: We are adopting a new airworthiness directive (AD) for certain The Boeing Company Model 757-200, -200CB, and -300 series airplanes with off-wing escape slide systems installed. This AD was prompted by reports of in-flight loss of the off-wing escape slide. This AD requires modifying the door latch fittings and witness mark placards of the off-wing escape slide systems; and for certain airplanes, replacing the bearings and lockbase retainer in the door latch assembly, relocating and adjusting the sensor target and the sensor proximity switch, and testing to ensure positive door locking and corrective action if necessary. For certain airplanes, this AD would also require installing a bumper assembly and placards. We are issuing this AD to prevent the in-flight loss of the off-wing escape slide, which could result in the unavailability of the escape slide during an emergency evacuation. Additionally, the departed slide could cause damage to the fuselage, wing, flaps, or stabilizer, which could degrade flight control.

DATES: This AD is effective February 29, 2012.

The Director of the Federal Register approved the incorporation by reference of certain publications listed in the AD as of February 29, 2012.

ADDRESSES: For service information identified in this AD, Boeing Commercial Airplanes, Attention: Data & Services Management, P.O. Box 3707, MC 2H-65, Seattle, Washington 98124-2207; phone: (206) 544-5000, extension 1; fax: (206) 766-5680; email: me.boecom@boeing.com; Internet: https://www.myboeingfleet.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Kimberly DeVoe, Aerospace Engineer, Cabin Safety and Environmental Systems Branch, ANM-150S, Seattle Aircraft Certification Office (ACO), FAA, 1601 Lind Avenue SW., Renton, Washington 98057-3356; phone: (425) 917-6495; fax: (425) 917-6590; email: Kimberly.Devoe@faa.gov.

SUPPLEMENTARY INFORMATION:

Discussion

We issued a notice of proposed rulemaking (NPRM) to amend 14 CFR part 39 to include an AD that would apply to the specified products. That NPRM was published in the Federal Register on March 14, 2011 (76 FR 13541). That NPRM proposed to require modifying the door latch fittings and witness mark placards of the off-wing escape slide systems; and for certain airplanes, replacing the bearings and lockbase retainer in the door latch assembly, relocating and adjusting the sensor target and the sensor proximity switch, and testing to ensure positive door locking and corrective action if necessary. For certain airplanes, that NPRM also proposed to require installing a bumper assembly and placards.

Comments

We gave the public the opportunity to participate in developing this AD. The following presents the comments received on the proposal and the FAA's response to each comment.

Agreement With the Intent of the NPRM

American Airlines (American) stated it agrees with the intent of the NPRM (76 FR 13541, March 14, 2011). Continental Airlines (Continental) stated that it has no objection to paragraphs (g) and (h) of the NPRM.

Requests To Update Service Information

American, Boeing, and an anonymous commenter requested the NPRM (76 FR 13541, March 14, 2011) be updated to refer to Boeing Special Attention Service Bulletin 757-25-0298, Revision 1, dated April 12, 2011, which was released during the NPRM comment period.

We agree. Since the NPRM (76 FR 13541, March 14, 2011) was issued, Boeing has issued Special Attention Service Bulletin 757-25-0298, Revision 1, dated April 12, 2011, which clarifies door latch engagement information, clarifies kit availability, and adds existing part numbers. We have changed paragraphs (c) and (g) of the AD to refer to Boeing Special Attention Service Bulletin 757-25-0298, Revision 1, dated April 12, 2011; added paragraph (k) of the AD to give credit for actions already accomplished in accordance with Boeing Special Attention Service Bulletin 757-25-0298, dated October 16, 2008; and revised subsequent paragraph lettering.

Request To Delay Publication of the AD

Continental requested we delay publication of the final rule until Revision 3 to Boeing Service Bulletin 757-25-0182 is published. Continental justified its request by stating that it noticed some discrepancies in Boeing Service Bulletin 757-25-0182, Revision 2, dated January 11, 2001, and would prefer that Revision 3 of this service bulletin be issued prior to the issuance of the final rule.

We partially agree. We agree that discrepancies exist in Boeing Service Bulletin 757-25-0182, Revision 2, dated January 11, 2001. We have reviewed Continental's comments with Boeing to obtain technical clarification. Boeing agrees with some of the discrepancies and has noted them for consideration for the next scheduled revision of this service bulletin. We disagree with delaying the issuance of the final rule because these minor discrepancies do not affect the operators' ability to accomplish the tasks specified in Boeing Service Bulletin 757-25-0182, Revision 2, dated January 11, 2001. We have not changed the AD in this regard.

Request To Identify the Specific Steps in the Service Information

American requested we change the NPRM (76 FR 13541, March 14, 2011) to identify the steps in Boeing Service Bulletin 757-25-0182, Revision 2, dated January 11, 2001, that would be required to comply with paragraph (h)(2) of the NPRM. American justified its request by stating that identifying the specific steps will eliminate ambiguity and provide clear interpretation of the proposed AD.

We agree. Clarifying the required steps will assist operators in accomplishing the required tests and modifications and will not expand the scope of the AD. We have added the steps to paragraph (h)(2) of the AD.

Request To Allow an Alternative to the Door Open/Door Close Test of the Compartment Door

American requested we change paragraph (h)(2) of the NPRM (76 FR 13541, March 14, 2011) to allow replacement of the target and remount of the switch on the new bracket in accordance with the Accomplishment Instructions of Boeing Service Bulletin 757-25-0182, Revision 2, dated January 11, 2001, as an alternative to performing the door open/door close test of the equipment compartment door. American justified its request by stating it accomplished the door open/door closed test of the compartment door as described in Boeing Service Bulletin 757-25-0182, Revision 2, dated January 11, 2001, in 2002 and 2003, and later experienced multiple off-wing slide deployments in 2006 and 2007.

We agree that replacing the target and remounting the switch on the new bracket is an alternative to performing the door open/door close test of the equipment compartment door. We have added a statement to paragraph (h)(2) of this AD indicating that replacing the target and remounting the switch on the new bracket terminates the testing requirement in that paragraph.

Request To Allow Certain Alternative Methods of Compliance (AMOCs)

American requested that all AMOCs previously approved for AD 99-17-20, Amendment 39-11266 (64 FR 45436, August 20, 1999), be applicable to the pertinent paragraphs of the NPRM (76 FR 13541, March 14, 2011). American justified its request by stating that since these AMOCs have previously demonstrated they provide the necessary equivalent level of safety to the original rule, transferring the applicability will prevent duplication of efforts already undertaken by both operators and the FAA.

We agree. AMOCs previously evaluated and approved as providing the necessary level of safety for AD 99-17-20, Amendment 39-11266 (64 FR 45436, August 20, 1999), would also provide the necessary level of safety for the corresponding requirements of this AD. We have added paragraph (l)(3) to the AD, which specifies that AMOCs approved previously in accordance with AD 99-17-20, Amendment 39-11266, are approved as AMOCs for the corresponding provisions of paragraph (h) of this AD.

Request To Allow the Replacement of Kept Parts With New Parts of the Same Part Number

American requested we change the NPRM (76 FR 13541, March 14, 2011) to allow replacement of kept parts with new parts of the same part number. American justified its request by stating that during the course of modification, parts may become damaged or lost, therefore rendering the kept hardware unserviceable or unavailable for installation.

We agree with using new parts where the service information calls for installation of kept parts because a part having the identical part number is acceptable for use whether it is kept or new. We have added new paragraph (h)(5) to this final rule to allow using new parts.

Request To Allow Operator Use of Approved Substitutes of Common Hardware

American requested we change the NPRM (76 FR 13541, March 14, 2011) to allow operators to use substitutes of common hardware (e.g., washers, nuts, bolts, and adhesives) that have been determined to be equivalent in accordance with the operator's parts management system to comply with hardware specified in Boeing Special Attention Service Bulletin 757-25-0298, Revision 1, dated April 12, 2011, Boeing Service Bulletin 757-25-0182, Revision 2, dated January 11, 2001, Boeing Service Bulletin 757-25-0200, Revision 1, dated August 3, 2000, and Boeing Special Attention Service Bulletin 757-25-0219, dated August 3, 2000.

We disagree. Parts management is an operator-specific process and needs to be evaluated on an individual basis. We will consider requests for approval of an AMOC under the provisions of paragraph (l) of this AD. Sufficient data must be submitted to substantiate that the operator's use of substitutes of common hardware would provide an acceptable level of safety. We have not changed the AD in this regard.

Conclusion

We reviewed the relevant data, considered the comments received, and determined that air safety and the public interest require adopting the AD with the changes described previously.

We also determined that these changes will not increase the economic burden on any operator or increase the scope of the AD.

Costs of Compliance

We estimate that this AD will affect 451 airplanes of U.S. registry.

We estimate the following costs to comply with this AD:

Estimated Costs
Action | Labor cost | Parts cost | Cost per product | Cost on U.S. operators
Modification of fittings and placards: Boeing Special Attention Service Bulletin 757-25-0298, Revision 1, dated April 12, 2011 | 7 work-hours × $85 per hour = $595 | $1,365 | $1,960 | $883,960.
Modification: Boeing Service Bulletin 757-25-0182, Revision 2, dated January 11, 2001 | 40 work-hours × $85 per hour = $3,400 | 2,786 | 6,186 | $1,880,544 (304 airplanes).
Test: Service Boeing Service Bulletin 757-25-0182, Revision 2, dated January 11, 2001 | 2 work-hours × $85 per hour = $170 | 0 | 170 | $76,670.
Bumper assembly and placards installation: Boeing Service Bulletin 757-25-0200, Revision 1, dated August 3, 2000 | 4 work-hours × $85 per hour = $340 | 457 | 797 | $272,574 (342 airplanes).
Bumper assembly and placards installation: Boeing Special Attention Service Bulletin 757-25-0219, dated August 3, 2000 | 4 work-hours × $85 per hour = $340 | 457 | 797 | $0 (0 airplanes).

We estimate the following costs to do any necessary replacements that would be required based on the results of the test. We have no way of determining the number of aircraft that might need these replacements.

On-Condition Costs
Action | Labor cost | Parts cost | Cost per product
Replacement and remount; Boeing Service Bulletin 757-25-0182, Revision 2, dated January 11, 2001 | 4 work-hours × $85 per hour = $340 | $2,786 | $3,126

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-01-09 The Boeing Company: Amendment 39-16921; Docket No. FAA-2011-0219; Directorate Identifier 2010-NM-228-AD.

(a) Effective Date

This AD is effective February 29, 2012.

(b) Affected ADs

Certain requirements of this AD affect certain requirements of AD 99-17-20, Amendment 39-11266 (64 FR 45436, August 20, 1999).

(c) Applicability

This AD applies to The Boeing Company Model 757-200, -200CB, and -300 series airplanes; certificated in any category; as identified in Boeing Special Attention Service Bulletin 757-25-0298, Revision 1, dated April 12, 2011; with off-wing escape slide systems installed.

(d) Subject

Joint Aircraft System Component (JASC)/Air Transport Association (ATA) of America Code 25, Equipment and Furnishings.

(e) Unsafe Condition

This AD was prompted by reports of in-flight loss of the off-wing escape slide. We are issuing this AD to prevent the in-flight loss of the off-wing escape slide, which could result in the unavailability of the escape slide during an emergency evacuation. Additionally, the departed slide could cause damage to the fuselage, wing, flaps, or stabilizer, which could degrade flight control.

(f) Compliance

Comply with this AD within the compliance times specified, unless already done.

(g) Modification

Within 60 months after the effective date of this AD, modify the door latch fittings and witness mark placards of the left and right off-wing escape slide systems, in accordance with the Accomplishment Instructions of Boeing Special Attention Service Bulletin 757-25-0298, Revision 1, dated April 12, 2011.

(h) Concurrent Actions

Concurrently with or before accomplishing the actions specified in paragraph (g) of this AD, do the applicable actions specified in paragraphs (h)(1), (h)(2), (h)(3), and (h)(4) of this AD.

(1) For airplanes that have not been modified by Boeing Service Bulletin 757-25-0182, dated October 10, 1996; or Revision 1, dated June 12, 1997; as of the effective date of this AD: Modify the door latch system of the left and right off-wing emergency evacuation slide systems, in accordance with the Accomplishment Instructions of Boeing Service Bulletin 757-25-0182, Revision 2, dated January 11, 2001.

(2) For airplanes that have been modified by Boeing Service Bulletin 757-25-0182, dated October 10, 1996; or Revision 1, dated June 12, 1997; as of the effective date of this AD: Do a test to verify that the modified compartment door sensor provides an accurate indication of the door lock condition, in accordance with Part II, Steps A. through C., of the Accomplishment Instructions of Boeing Service Bulletin 757-25-0182, Revision 2, dated January 11, 2001. If the test indicates that the compartment door is not locking positively, concurrently with or before accomplishing the actions specified in paragraph (g) of this AD, replace the target and remount the switch on the new bracket, in accordance with Part II, Steps F. through V., of the Accomplishment Instructions of Boeing Service Bulletin 757-25-0182, Revision 2, dated January 11, 2001. Replacing the target and remounting the switch on the new bracket terminates the testing requirement in this paragraph.

(3) For airplanes identified in Boeing Service Bulletin 757-25-0200, Revision 1, dated August 3, 2000: Concurrently with or before accomplishing the actions required by paragraph (g) of this AD, install a bumper assembly on the left and right off-wing escape slide carriers, and install new placards in the area of the maintenance access door, in accordance with the Accomplishment Instructions of Boeing Service Bulletin 757-25-0200, Revision 1, dated August 3, 2000.

(4) For airplanes identified in Boeing Special Attention Service Bulletin 757-25-0219, dated August 3, 2000: Concurrently with or before accomplishing the actions required by paragraph (g) of this AD, install a bumper assembly on the left and right off-wing escape slide carriers, and install new placards in the area of the maintenance access door, in accordance with the Accomplishment Instructions of Boeing Special Attention Service Bulletin 757-25-0219, dated August 3, 2000.

(5) Using new parts having the same part number where the service information calls for installation of kept parts is acceptable for compliance with the requirements of this AD.

(i) Terminating Action for Paragraph (a)(1) of AD 99-17-20, Amendment 39-11266 (64 FR 45436, August 20, 1999)

Actions done in accordance with paragraph (h)(1) of this AD terminate the requirements of paragraph (a)(1) of AD 99-17-20, Amendment 39-11266 (64 FR 45436, August 20, 1999).

(j) Terminating Action for Paragraph (a)(2) of AD 99-17-20, Amendment 39-11266 (64 FR 45436, August 20, 1999)

Actions done in accordance with paragraph (h)(3) of this AD terminate the corresponding requirements of paragraph (a)(2) of AD 99-17-20, Amendment 39-11266 (64 FR 45436, August 20, 1999).

(k) Credit for Actions Accomplished in Accordance With Previous Service Information

Actions done before the effective date of this AD in accordance with Boeing Service Bulletin 757-25-0200, dated January 21, 1999, are acceptable for compliance with the corresponding requirements of paragraphs (h)(3) and (h)(4) of this AD. Actions done before the effective date of this AD in accordance with Boeing Special Attention Service Bulletin 757-25-0298, dated October 16, 2008, are acceptable for compliance with the corresponding requirements of paragraph (g) of this AD.

(l) Alternative Methods of Compliance (AMOCs)

(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved in accordance with AD 99-17-20, Amendment 39-11266 (64 FR 45436, August 20, 1999), are approved as AMOCs for the corresponding provisions of paragraph (h) of this AD.

(m) Related Information

For more information about this AD, contact Kimberly DeVoe, Aerospace Engineer, Cabin Safety and Environmental Systems Branch, ANM-150S, Seattle Aircraft Certification Office (ACO), FAA, 1601 Lind Avenue SW., Renton, Washington 98057-3356; phone: (425) 917-6495; fax: (425) 917-6590; email: Kimberly.Devoe@faa.gov.

(n) Material Incorporated by Reference

(1) You must use the following service information to do the actions required by this AD, unless the AD specifies otherwise. The Director of the Federal Register approved the incorporation by reference (IBR) of the following service information under 5 U.S.C. 552(a) and 1 CFR part 51.

(i) Boeing Special Attention Service Bulletin 757-25-0298, Revision 1, dated April 12, 2011.

(ii) Boeing Service Bulletin 757-25-0182, Revision 2, dated January 11, 2001.

(iii) Boeing Service Bulletin 757-25-0200, Revision 1, dated August 3, 2000.

(iv) Boeing Special Attention Service Bulletin 757-25-0219, dated August 3, 2000.

(2) For service information identified in this AD, contact Boeing Commercial Airplanes, Attention: Data & Services Management, P.O. Box 3707, MC 2H-65, Seattle, Washington 98124-2207; phone: (206) 544-5000, extension 1; fax: (206) 766-5680; email: me.boecom@boeing.com; Internet: https://www.myboeingfleet.com.

(3) You may review copies of the referenced service information at the FAA, Transport Airplane Directorate, 1601 Lind Avenue SW., Renton, Washington. For information on the availability of this material at the FAA, call (425) 227-1221.

(4) You may also review copies of the service information that is incorporated by reference at the National Archives and Records Administration (NARA). For information on the availability of this material at an NARA facility, call (202) 741-6030, or go to http://www.archives.gov/federal_register/code_of_federal_regulations/ibr_locations.html.

Issued in Renton, Washington, on January 13, 2012.
John Piccola,
Acting Manager, Transport Airplane Directorate, Aircraft Certification Service.

[FR Doc. 2012-1125 Filed 1-24-12; 8:45 am]

BILLING CODE 4910-13-P